NATIONAL AERONAUTICS AND SPACE ADMINISTRATION

[Notice: (19-031)]

NASA Advisory Council; Meeting

AGENCY: National Aeronautics and Space Administration.

ACTION: Notice of meeting.

SUMMARY: In accordance with the Federal Advisory Committee Act, as amended, the National Aeronautics and Space Administration (NASA) announces a meeting of the NASA Advisory Council (NAC).

DATES: Thursday, May 30, 2019, 10:30 a.m.-4:30 p.m.; and Friday, May 31, 2019, 8:30 a.m.-12:00 noon, Eastern Time.

ADDRESSES: NASA Headquarters, Program Review Center (PRC), Room 9H40, 300 E Street SW, Washington, DC 20546.

FOR FURTHER INFORMATION CONTACT: Ms. Marcia Joseph, NAC Administrative Officer, NASA Headquarters, Washington, DC 20546, (202) 358-4717 or marcia.joseph@nasa.gov.

SUPPLEMENTARY INFORMATION: This meeting will be open to the public up to the capacity of the meeting room. This meeting is also available telephonically and by WebEx. You must use a touch-tone phone to participate in this meeting. Any interested person may dial the toll number 1-630-395-0091 or toll free number 1-888-935-0264 and then the numeric passcode 2976219, followed by the # sign, on both days. Note: If dialing in, please “mute” your phone. To join via WebEx, the link is https://nasaenterprise.webex.com/. The meeting number on May 30 is 906 649 874 and the meeting password is MayNAC#530 (case sensitive); the meeting number on May 31 is 908 431 452 and the meeting password is MayNAC#531 (case sensitive).

The agenda for the meeting will include reports from the following:

—Aeronautics Committee

—Human Exploration and Operations Committee

—Regulatory and Policy Committee

—Science Committee

—STEM Engagement Committee

—Technology, Innovation and Engineering Committee

Attendees will be requested to sign a register and to comply with NASA Headquarters security requirements, including the presentation of a valid picture ID to NASA Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status no less than 3 working days prior to the meeting. Information should be sent to Ms. Marcia Joseph via email at marcia.joseph@nasa.gov. It is imperative that the meeting be held on these dates to accommodate the scheduling priorities of the key participants.

Patricia Rausch,
Advisory Committee Management Officer, National Aeronautics and Space Administration.

[FR Doc. 2019-10089 Filed 5-14-19; 8:45 am]

BILLING CODE 7510-13-P